DEPARTMENT OF COMMERCE

National Oceanic and Atmospheric Administration

50 CFR Parts 600 and 635

RIN 0648-BC31

Atlantic Highly Migratory Species; 2006 Consolidated Atlantic Highly Migratory Species Fishery Management Plan; Amendment 8

AGENCY: National Marine Fisheries Service (NMFS), National Oceanic and Atmospheric Administration (NOAA), Commerce.

ACTION: Notice of public hearings; extension of comment period.

SUMMARY: On February 22, 2013, NMFS published a proposed rule for Draft Amendment 8 to the 2006 Consolidated Atlantic Highly Migratory Species (HMS) Fishery Management Plan (FMP) to address several new proposed North Atlantic swordfish commercial fishery management measures, including a new open access permit that would allow the retention and sale of swordfish caught with certain handgears. We announced the date and location for six public hearings and a comment period ending on April 23, 2013. In this notice, NMFS announces the dates and logistics for two additional public hearings, and an extension of the comment period from April 23, 2013, to May 8, 2013, to provide additional opportunities for the five Fishery Management Councils, the Atlantic and Gulf States Marine Fisheries Commissions, and other interested parties to comment on the swordfish management measures proposed in Draft Amendment 8.

DATES: The deadline for comments has been extended from April 23, 2013, to May 8, 2013. Two additional public hearings will be held, one on April 10, 2013 from 5:00 to 8:00 p.m., and the second on April 30, 2013 from 2:30 to 4:30 p.m., via public conference call and webinar.

ADDRESSES: Addresses for the two additional public hearings are: Stafford Branch Library, 129 North Main Street, Manahawkin, NJ 08050 and via public conference call and webinar. To participate in the conference call dial 1-800-779-0686 and enter the passcode 2132689.

As published on February 22, 2013 (78 FR 12273), written comments on this action may be submitted, identified by NOAA-NMFS-2013-0026, by any of the following methods:

• Electronic Submission: Submit all electronic public comments via the Federal e-Rulemaking Portal. Go to www.regulations.gov/#!docketDetail;D=NOAA-NMFS-2013-0026, click the “Comment Now!” icon, complete the required fields, and enter or attach your comments.

• Mail: Submit written comments to the Highly Migratory Species Management Division, NMFS Office of Sustainable Fisheries, 1315 East-West Highway, Silver Spring, MD 20910. Please mark on the outside of the envelope “Comments on Amendment 8 to the HMS FMP.”

• Fax: 301-713-1917; Attn: Jennifer Cudney.

Instructions: Comments sent by any other method, to any other address or individual, or received after the end of the comment period, may not be considered by NMFS. All comments received are a part of the public record and generally will be posted for public viewing on www.regulations.gov without change. All personal identifying information (e.g., name, address, etc.), confidential business information, or otherwise sensitive information submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

FOR FURTHER INFORMATION CONTACT: Rick Pearson at 727-824-5399 or Jennifer Cudney at 301-427-8503.

SUPPLEMENTARY INFORMATION: Atlantic tunas and swordfish are managed under the dual authority of the Magnuson-Stevens Fishery Conservation and Management Act (Magnuson-Stevens Act) and the Atlantic Tunas Convention Act (ATCA). Under the Magnuson-Stevens Act, the National Marine Fisheries Service (NMFS) must, consistent with the National Standards, prevent overfishing while achieving, on a continuing basis, the optimum yield (OY) from each fishery and rebuild overfished fisheries. Under ATCA, the Secretary of Commerce (Secretary) shall promulgate regulations as may be necessary and appropriate to carry out recommendations by the International Commission for the Conservation of Atlantic Tunas (ICCAT). The authority to issue regulations under the Magnuson-Stevens Act and ATCA has been delegated from the Secretary to the Assistant Administrator for Fisheries, NOAA (AA). Atlantic HMS regulations are found at 50 CFR part 635.

Consistent with these legal obligations and based on the rebuilt status of North Atlantic swordfish, the renewed interest in commercial handgears, and the goal to more fully utilize the U.S. ICCAT-recommended swordfish quota allocation, NMFS proposed fishery management measures for Draft Amendment 8 to the 2006 Consolidated HMS FMP in a proposed rule published on February 22, 2013 (78 FR 12273). The proposed rule provides additional details.

The preferred alternatives in Amendment 8 would establish a new open-access commercial swordfish vessel permit to allow for the retention and sale of a limited number (zero to six fish) of swordfish caught on rod and reel, handline, harpoon, bandit gear, or green-stick. HMS Charter/Headboat vessel permit holders would also be authorized to fish with rod and reel and handline under open-access swordfish commercial retention limits when they are not on a for-hire trip. In addition, the preferred alternatives would establish swordfish management regions. We have proposed an initial one-fish retention limit for the Florida Swordfish Management Area, a two-fish retention limit for the Caribbean region (to be consistent with the newly created HMS Commercial Caribbean Handgear Permit), and a three-fish retention limit for the Northwest Atlantic and Gulf of Mexico regions.

Dates and Locations of Public Meetings

The two additional public meetings dates and locations are as follows:

• April 10, 2013, 5:00-8:00 p.m., Stafford Branch Library, 129 North Main Street, Manahawkin, NJ 08050

• April 30, 2013, 2:30-4:30 p.m., Conference Call and Webinar, To participate in conference call, call: (800) 779-0686, Passcode: 2132689

To participate in webinar, RSVP at: https://www1.gotomeeting.com/register/656686320.

A confirmation email with webinar log-in information will be sent after RSVP is registered.

Authority: 16 U.S.C. 1801 et seq.

Dated: March 18, 2013.
Kara Meckley,
Acting Deputy Director, Office of Sustainable Fisheries, National Marine Fisheries Service.

[FR Doc. 2013-06541 Filed 3-21-13; 8:45 am]

BILLING CODE 3510-22-P